DEPARTMENT OF ENERGY

Federal Energy Regulatory Commission

Notice of Effectiveness of Exempt Wholesale Generator Status

| Docket Nos.
Fresno Cogeneration Partners, L.P | EG00-32-001
Fifth Standard Solar PV, LLC | EG23-88-000
San Jacinto Grid, LLC | EG23-89-000
Ortega Grid, LLC | EG23-90-000
Baldy Mesa Solar, LLC | EG23-91-000
Double Black Diamond Solar Power, LLC | EG23-93-000
Landrace Holdings, LLC | EG23-94-000
PGR 2021 Lessee 18, LLC | EG23-95-000
Virginia Line Solar, LLC | EG23-96-000
PGR 2022 Lessee 1, LLC | EG23-97-000
Remy Jade II, LLC | EG23-98-000
Newport Solar, LLC | EG23-99-000
CED Peregrine Solar, LLC | EG23-100-000
Waverly Solar, LLC | EG23-101-000
Cavalier Solar A, LLC | EG23-102-000
Foxhound Solar, LLC | EG23-103-000
Texas Solar Nova 2, LLC | EG23-104-000
Partin Solar LLC | EG23-105-000
Desert Peak Energy Center, LLC | EG23-106-000
Desert Peak Energy Storage I, LLC | EG23-107-000
Desert Peak Energy Storage II, LLC | EG23-108-000
Lakewood Cogeneration, L.P | EG99-197-001
Stanton Battery Energy Storage LLC | EG23-109-000
Santa Paula Energy Storage, LLC | EG23-110-000
Westlake Chemicals & Vinyls LLC | EG23-111-000
AES ES Westwing, LLC | EG23-112-000

Take notice that during the month of May 2023, the status of the above-captioned entities as Exempt Wholesale Generators became effective by operation of the Commission's regulations. 18 CFR 366.7(a) (2022).

Dated: June 5, 2023.
Debbie-Anne A. Reese,
Deputy Secretary.

[FR Doc. 2023-12369 Filed 6-8-23; 8:45 am]

BILLING CODE 6717-01-P